ELECTION ASSISTANCE COMMISSION

Sunshine Act Meetings: Standards Board 2024 Annual Meeting

AGENCY: Election Assistance Commission.

ACTION: Sunshine Act notice; notice of public meeting agenda.

SUMMARY: Public Meeting: U.S. Election Assistance Commission Standards Board 2024 Annual Meeting.

DATES: Wednesday, April 17, 2024 9:00 a.m.-4:30 p.m. Central and Thursday, April 18, 2024 9:00 a.m.-11:45 a.m. Central.

ADDRESSES: The Fontaine hotel, 901 W 48th Place, Kansas City, Missouri 64112.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an annual meeting of the EAC Standards Board to conduct regular business, discuss EAC updates and upcoming programs, and discuss other relevant election topics.

Background: HAVA designates a 110-member Standards Board to assist EAC in carrying out its mandates under the law. The board consists of 55 state election officials selected by their respective chief state election official, and 55 local election officials selected through a process supervised by the chief state election official.

Agenda: The U.S. Election Assistance Commission (EAC) Standards Board will hold their 2024 Annual Meeting to conduct regular business and discuss communications, lessons from the presidential primaries, the impact of artificial intelligence on elections and mitigation tactics, and looking forward to the general election. This meeting will include a question and answer discussion between board members and EAC staff.

Board members will also review FACA Board membership guidelines and policies with EAC Acting General Counsel and receive a general update about the EAC programing.

The EAC will only accept written comments and questions from members of the public. If you would like to participate, please email clearinghouse@eac.gov with your full name and question or comment no later than 5:00 p.m. Central Time on April 17, 2024.

The full agenda will be posted in advance on the EAC website: https://www.eac.gov/events/2024/04/17/2024-eac-standards-board-annual-meeting.

Status: This meeting will be open to the public.

Camden Kelliher,
Acting General Counsel, U.S. Election Assistance Commission.

[FR Doc. 2024-06308 Filed 3-21-24; 11:15 am]

BILLING CODE 4810-71-P